DEPARTMENT OF COMMERCE

National Telecommunications and Information Administration

Commerce Spectrum Management Advisory Committee, Call for Applications

AGENCY: National Telecommunications and Information Administration, U.S. Department of Commerce.

ACTION: Notice and call for applications to serve on advisory committee.

SUMMARY: The National Telecommunications and Information Administration (NTIA) is seeking applications from persons interested in serving on the Department of Commerce Spectrum Management Advisory Committee (CSMAC or committee) for a two-year term. The CSMAC provides advice to the Assistant Secretary of Commerce for Communications and Information on a broad range of issues regarding spectrum management and policy.

DATES: Applications must be postmarked or electronically transmitted on or before November 15, 2013.

ADDRESSES: Persons may submit applications, with the information specified below, to Bruce M. Washington, Designated Federal Officer, by email to bwashington@ntia.doc.gov or by U.S. mail or commercial delivery service to Office of Spectrum Management, National Telecommunications and Information Administration, 1401 Constitution Avenue NW., Room 4099, Washington, DC 20230.

FOR FURTHER INFORMATION CONTACT: Bruce M. Washington at (202) 482-6415 or bwashington@ntia.doc.gov.

SUPPLEMENTARY INFORMATION: The Commerce Spectrum Management Advisory Committee has been established and chartered by the Department of Commerce under the Federal Advisory Committee Act (FACA), 5 U.S.C. App. 2, and pursuant to Section 105(b) of the National Telecommunications and Information Administration Organization Act, as amended, 47 U.S.C. 904(b). The Department of Commerce re-chartered the CSMAC on March 5, 2013, for a two-year period. The CSMAC advises the Assistant Secretary of Commerce for Communications and Information on a broad range of issues regarding spectrum policy. In particular, the current charter provides that the committee will provide advice and recommendations on needed reforms to domestic spectrum policies and management in order to: License radio frequencies in a way that maximizes their public benefit; keep wireless networks as open to innovation as possible; and make wireless services available to all Americans. The CSMAC functions solely as an advisory body in compliance with FACA. Additional information about the CSMAC and its activities may be found at http://www.ntia.doc.gov/category/csmac.

Under the committee's charter, it will have no fewer than five (5) members and no more than thirty (30) members. The Secretary of Commerce will appoint members of the committee who serve at the pleasure and discretion of the Secretary. Members will be appointed for up to a two-year term and may be reappointed for additional terms. On behalf of the Secretary, NTIA hereby seeks applicants for two-year terms that will commence in May 2014 and continue until May 2016, subject to extension of such terms, reappointment, and the renewal of the committee's charter, unless earlier terminated or renewed by proper authority.

No member of the committee shall be a registered lobbyist under the Lobbying Disclosure Act of 1995, as amended, 2 U.S.C. § 1601 et seq. See Office of Management and Budget, Final Guidance on Appointments of Lobbyists to Federal Boards and Commissions, Notice of Final Guidance, 76 FR 61756 (Oct. 5, 2011). All members of the committee are Special Government Employees (SGEs) and shall be subject to the ethical standards applicable to SGEs. Members may not receive compensation or reimbursement for travel or for per diem expenses.

The committee's membership will be fairly balanced in terms of the points of view represented by members and the functions to be performed. Accordingly, its membership will reflect a balanced cross-section of interests in spectrum management and policy, including non-federal spectrum users; state, regional, and local sectors; technology developers and manufacturers; academia; civil society; and service providers with customers in both domestic and international markets. A description of factors that will be considered to determine each applicant's expertise is contained in the committee's Membership Balance Plan (available at http://www.ntia.doc.gov/other-publication/2013/csmac-membership-balance-plan).

In particular, NTIA seeks applicants with strong technical and engineering knowledge and experience, familiarity with commercial or private wireless technologies and associated businesses, or expertise with specific applications of wireless technologies. The Secretary may consider factors including, but not limited to, educational background, past work or academic accomplishments, and the industry sector in which a member is currently or was previously employed. All appointments will be made without discrimination on the basis of age, ethnicity, gender, sexual orientation, disability, or cultural, religious, or socioeconomic status.

Interested qualified persons may submit applications, with the information specified below, to Bruce M. Washington, Designated Federal Officer, by email to bwashington@ntia.doc.gov or by U.S. mail or commercial delivery service to Office of Spectrum Management, National Telecommunications and Information Administration, 1401 Constitution Avenue NW., Room 4099, Washington, DC 20230.

Each application must include the applicant's full name, address, telephone number, and email address, along with a summary of the applicant's qualifications that identifies, with specificity, how his or her education, training, experience, or other factors would support the CSMAC's work and how his or her participation would help achieve the balance factors described above. Each application must also include a detailed resume or curriculum vitae.

Dated: September 27, 2013.
Kathy D. Smith,
Chief Counsel, National Telecommunications and Information Administration.

[FR Doc. 2013-24087 Filed 10-1-13; 8:45 am]

BILLING CODE 3510-60-P